DEPARTMENT OF EDUCATION

[CFDA 84.060A]

Indian Education Formula Grants to Local Educational Agencies; Notice Inviting Applications for Awards for Fiscal Year (FY) 2000

Purpose of Program: The Indian Education Formula Grant program provides grants to support local educational agencies in their efforts to reform elementary and secondary school programs that serve Indian students. The programs funded are to be based on challenging State content standards and State student performance standards used for all students, and be designed to assist Indian students to meet those standards.

Eligible Applicants: Local educational agencies (LEAs) and certain schools funded by the Bureau of Indian Affairs, and Indian tribes under certain conditions.

Deadline for Transmittal of Applications: June 2, 2000. Applications not meeting the deadline will not be considered for funding in the initial allocation of awards. However, if funds become available after the initial allocation of funds, applications not meeting the deadline may be considered for funding if the Secretary determines under section 9117(d) of the Elementary and Secondary Education Act of 1965, as amended, that reallocation of those funds to late applicants would best assist in advancing the purposes of the program. However, the amount and date of an individual award, if any is made under this provision, may be less than the applicant would have received had the application been submitted on time.

Deadline for Intergovernmental Review: August 2, 2000.

Applications Available: April 24, 2000.

Available Funds: The appropriation for this program for fiscal year 2000 is $62,000,000, which should be sufficient to fund all eligible applicants.

Estimated Range of Awards: $3,000 to $1,400,000.

Estimated Average Size of Awards: $48,818.

Estimated Number of Awards: 1,270.

Note: The Department is not bound by any estimates in this notice.

Project Period: Up to 60 months.

Applicable Regulations: The Education Department General Administrative Regulations (EDGAR) in 34 CFR parts 75, 77, 79, 80, 81, 82, 85, 86, 97, 98, and 99.

For Applications or Information Contact: Cathie Martin, Office of Indian Education, U.S. Department of Education, 400 Maryland Avenue, SW, Room 3W115, Washington, DC 20202-6335. Telephone: (202) 260-3774. Individuals who use a telecommunications device for the deaf (TDD) may call the Federal Information Relay Service (FIRS) at 1-800-877-8339.

Individuals with disabilities may obtain this document in an alternative format (e.g., Braille, large print, audiotape, or computer diskette) on request of the person listed in the preceding paragraph.

Individuals with disabilities may obtain a copy of the application package in an alternative format, also, by contacting that person. However, the Department is not able to reproduce in an alternative format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program, which is available free at either of the previous sites. If you have questions about using the PDF, call the U.S. Government Printing Office (GPO), toll free, at 1-888-293-6498; or in the Washington, DC, area at (202) 512-1530.

Note: The official version of this document is the document published in the Federal Register. Free Internet access to the official edition of the Federal Register and the Code of Federal Regulations is available on GPO Access:

http://www.access.gpo.gov/nara/index.html

Program Authority: 20 U.S.C. 7811.

Dated: April 18, 2000.
Michael Cohen,
Assistant Secretary, Elementary and Secondary Education.

[FR Doc. 00-10115 Filed 4-21-00; 8:45 am]

BILLING CODE 4000-01-P